RAILROAD RETIREMENT BOARD

20 CFR Part 217

RIN 3220-AB45

Application for Annuity or Lump Sum

AGENCY: Railroad Retirement Board.

ACTION: Final rule.

SUMMARY: The Railroad Retirement Board amends its regulations to enable a divorced spouse who remarries the employee within six months of the divorce to use the spouse application to qualify for a divorced spouse annuity for the period prior to the remarriage. This amendment eliminates the necessity for the spouse to file a separate application for a short period of benefits.

EFFECTIVE DATE: This rule is effective May 17, 2001.

FOR FURTHER INFORMATION CONTACT: Marguerite P. Dadabo, Assistant General Counsel, Railroad Retirement Board, telephone (312) 751-4945, TTD (312) 751-4701.

SUPPLEMENTARY INFORMATION: Section 217.8 of the Board's regulations describes situations where the Board will accept an application filed for one type of annuity as an application for another type of annuity. An application may be effective for the period six months prior to the date of filing. This final rule adds a provision to enable a divorced spouse who remarries the employee within six months of the divorce to use the spouse application to qualify for a divorced spouse annuity for the period after the divorce and prior to the remarriage. In such cases the requirement that a claimant be married to the employee for a period of one year prior to application for a spouse annuity, as required by § 216.54 of this part, is waived.

The Board published this rule as a proposed rule on May 11, 2000 (65 FR 30366) and invited comments by July 10, 2000. No comments were received. Accordingly, the proposed rule is adopted as a final rule without change.

The Board, with the concurrence of the Office of Management and Budget, has determined that this is not a significant regulatory action under Executive Order 12866; therefore, no regulatory impact analysis is required. There are no information collections associated with this rule.

List of Subjects in 20 CFR Part 217

Railroad employees, Railroad retirement.

For the reasons set out in the preamble, the Railroad Retirement Board amends chapter II of title 20 of the Code of Federal Regulations as follows:

PART 217—APPLICATION FOR ANNUITY OR LUMP SUM

1. The authority citation for part 217 continues to read as follows:

Authority: 45 U.S.C. 231d and 45 U.S.C. 231f.

2. In Subpart B, § 217.8, redesignate paragraphs (m) through (u) as (n) through (v), and add a new paragraph (m) to read as follows:

§ 217.8 When one application satisfies the filing requirement for other benefits.

* * * * *

(m) A divorced spouse annuity if the spouse claimant has remarried the employee during the six-month retroactive period of the spouse annuity application.

* * * * *

Dated: May 1, 2001.
By Authority of the Board.
Beatrice Ezerski,
Secretary to the Board.

[FR Doc. 01-12395 Filed 5-16-01; 8:45 am]

BILLING CODE 7905-01-P